DEPARTMENT OF THE TREASURY

Office of Foreign Assets Control

31 CFR Parts 594 and 597

Publication of Global Terrorism Sanctions Regulations and Foreign Terrorist Organization Sanctions Regulations Web General Licenses 9, 10, 11, 12, and 13

AGENCY: Office of Foreign Assets Control, Treasury.

ACTION: Publication of web general licenses.

SUMMARY: The Department of the Treasury's Office of Foreign Assets Control (OFAC) is publishing five general licenses (GLs) issued pursuant to the Global Terrorism Sanctions Regulations and the Foreign Terrorist Organization Sanctions Regulations: GLs 9, 10, 11. 12, and 13, each of which was previously made available on OFAC's website.

DATES: GL 9 was issued on January 19, 2021. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On January 19, 2021, OFAC issued GLs 9, 10, 11, and 12 to authorize certain transactions otherwise prohibited by Global Terrorism Sanctions Regulations, 31 CFR part 594 (the GTSR), the Foreign Terrorist Organization Sanctions Regulations, 31 CFR part 597 (the FTOSR), and Executive Order (E.O.) 13224 of September 23, 2001 “Blocking Property and Prohibiting Transactions With Persons Who Commit, Threaten To Commit, or Support Terrorism” (66 FR 49079, September 25, 2001), as amended. On January 25, 2021, OFAC issued GL 13, also to authorize certain transactions otherwise prohibited by the GTSR, the FTOSR, and E.O. 13224, as amended. Each GL was made available on OFAC's website (https://ofac.treasury.gov) when it was issued. Each of these GLs was revoked on February 16, 2021 upon the U.S. Department of State's revocation of the designation of Ansarallah. The text of these GLs is provided below.

OFFICE OF FOREIGN ASSETS CONTROL

Global Terrorism Sanctions Regulations

31 CFR Part 594

Foreign Terrorist Organizations Sanctions Regulations

31 CFR Part 597

Executive Order 13224 of September 23, 2001

Blocking Property and Prohibiting Transactions With Persons Who Commit, Threaten To Commit, or Support Terrorism, as Amended

GENERAL LICENSE NO. 9

Official Business of the United States Government

(a) Except as provided in paragraph (b) of this general license, all transactions and activities involving Ansarallah, or any entity in which Ansarallah owns, directly or indirectly, a 50 percent or greater interest, prohibited by the Global Terrorism Sanctions Regulations, 31 CFR part 594 (GTSR), the Foreign Terrorist Organizations Sanctions Regulations, 31 CFR part 597 (FTOSR), or Executive Order (E.O.) 13224, as amended, that are for the conduct of the official business of the United States Government by employees, grantees, or contractors thereof are authorized.

(b) This general license does not authorize any transactions or activities otherwise prohibited by the GTSR, the FTOSR, or any other part of 31 CFR chapter V, or E.O. 13224, as amended, or any transactions or activities with any blocked persons other than the blocked persons identified in paragraph (a) of this general license.

Dated: January 19, 2021.

Andrea Gacki,

Director, Office of Foreign Assets Control.

OFFICE OF FOREIGN ASSETS CONTROL

Global Terrorism Sanctions Regulations

31 CFR Part 594

Foreign Terrorist Organizations Sanctions Regulations

31 CFR Part 597

Executive Order 13224 of September 23, 2001

Blocking Property and Prohibiting Transactions With Persons Who Commit, Threaten To Commit, or Support Terrorism, as Amended

GENERAL LICENSE NO. 10

Official Activities of Certain International Organizations

(a) Except as provided in paragraph (b) of this general license, all transactions and activities involving Ansarallah, or any entity in which Ansarallah owns, directly or indirectly, a 50 percent or greater interest, prohibited by the Global Terrorism Sanctions Regulations, 31 CFR part 594 (GTSR), the Foreign Terrorist Organizations Sanctions Regulations, 31 CFR part 597 (FTOSR), or Executive Order (E.O.) 13224, as amended, that are for the conduct of the official business of the United Nations and its Specialized Agencies, Programmes, Funds, and Related Organizations, the International Committee of the Red Cross, and the International Federation of Red Cross and Red Crescent Societies, by employees, contractors, or grantees thereof are authorized.

(b) This general license does not authorize:

(1) Any transactions or activities involving the Iranian Red Crescent Society; or

(2) Any transactions or activities otherwise prohibited by the GTSR, the FTOSR, or any other part of 31 CFR chapter V, or E.O. 13224, as amended, or any transactions or activities with any blocked persons other than the blocked persons identified in paragraph (a) of this general license.

Note to General License 10: For an organizational chart listing the Specialized Agencies, Programmes, Funds, and Related Organizations of the United Nations, see the following page on the United Nations website: http://www.unsceb.org/directory.

Andrea Gacki,

Director, Office of Foreign Assets Control.

Dated: January 19, 2021.

OFFICE OF FOREIGN ASSETS CONTROL

Global Terrorism Sanctions Regulations

31 CFR Part 594

Foreign Terrorist Organizations Sanctions Regulations

31 CFR Part 597

Executive Order 13224 of September 23, 2001

Blocking Property and Prohibiting Transactions With Persons Who Commit, Threaten To Commit, or Support Terrorism, as Amended

GENERAL LICENSE NO. 11

Certain Transactions in Support of Nongovernmental Organizations' Activities in Yemen

(a) Except as provided in paragraph (c) of this general license, all transactions and activities involving Ansarallah, or any entity in which Ansarallah owns, directly or indirectly, a 50 percent or greater interest, prohibited by the Global Terrorism Sanctions Regulations, 31 CFR part 594 (GTSR), the Foreign Terrorist Organizations Sanctions Regulations, 31 CFR part 597 (FTOSR), or Executive Order (E.O.) 13224, as amended, that are ordinarily incident and necessary to the activities described in paragraph (b) by nongovernmental organizations are authorized, including processing and transfer of funds, payment of taxes, fees, and import duties, and purchase or receipt of permits, licenses, or public utility services.

(b) The activities referenced in paragraph (a) of this general license are as follows:

(1) Activities to support humanitarian projects to meet basic human needs in Yemen, including drought and flood relief; food, nutrition, and medicine distribution; the provision of health services; assistance for vulnerable populations, including individuals with disabilities and the elderly; and environmental programs;

(2) Activities to support democracy building in Yemen, including activities to support rule of law, citizen participation, government accountability, universal human rights and fundamental freedoms, access to information, and civil society development projects;

(3) Activities to support education in Yemen, including combating illiteracy, increasing access to education, international exchanges, and assisting education reform projects;

(4) Activities to support non-commercial development projects directly benefiting the Yemeni people, including preventing infectious disease and promoting maternal/child health, sustainable agriculture, and clean water assistance; and

(5) Activities to support environmental protection in Yemen, including the preservation and protection of threatened or endangered species and the remediation of pollution or other environmental damage.

(c) This general license does not authorize any transactions or activities otherwise prohibited by the GTSR, the FTOSR, or any other part of 31 CFR chapter V, or E.O. 13224, as amended, or any transactions or activities with any blocked persons other than the blocked persons identified in paragraph (a) of this general license.

Andrea Gacki,

Director, Office of Foreign Assets Control.

Dated: January 19, 2021.

OFFICE OF FOREIGN ASSETS CONTROL

Global Terrorism Sanctions Regulations

31 CFR Part 594

Foreign Terrorist Organizations Sanctions Regulations

31 CFR Part 597

Executive Order 13224 of September 23, 2001

Blocking Property and Prohibiting Transactions With Persons Who Commit, Threaten To Commit, or Support Terrorism, as Amended

GENERAL LICENSE NO. 12

Transactions Related to the Exportation or Reexportation of Agricultural Commodities, Medicine, Medical Devices, Replacement Parts and Components, or Software Updates

(a) Except as provided in paragraph (c) of this general license, all transactions and activities involving Ansarallah, or any entity in which Ansarallah owns, directly or indirectly, a 50 percent or greater interest, prohibited by the Global Terrorism Sanctions Regulations, 31 CFR part 594 (GTSR), the Foreign Terrorist Organizations Sanctions Regulations, 31 CFR part 597 (FTOSR), or Executive Order (E.O.) 13224, as amended, and that are ordinarily incident and necessary to the exportation or reexportation of agricultural commodities, medicine, medical devices, replacement parts and components for medical devices, or software updates for medical devices to Yemen or to persons in third countries purchasing specifically for resale to Yemen, are authorized.

(b) Covered items. For the purposes of this general license, agricultural commodities, medicine, and medical devices are defined as follows:

(1) Agricultural commodities. For the purposes of this general license, agricultural commodities are:

(i) Products that fall within the term “agricultural commodity” as defined in section 102 of the Agricultural Trade Act of 1978 (7 U.S.C. 5602); and

(ii) That are intended for ultimate use in Yemen as:

(A) Food for humans (including raw, processed, and packaged foods; live animals; vitamins and minerals; food additives or supplements; and bottled drinking water) or animals (including animal feeds);

(B) Seeds for food crops;

(C) Fertilizers or organic fertilizers; or

(D) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

(c) This general license does not authorize any transactions or activities otherwise prohibited by the GTSR, the FTOSR, or any other part of 31 CFR chapter V, or E.O. 13224, as amended, or any transactions or activities with any blocked persons other than the blocked persons identified in paragraph (a) of this general license.

Note to General License 12: Nothing in this general license relieves any exporter from compliance with the requirements of other Federal agencies, including the Department of Commerce's Bureau of Industry and Security.

Andrea Gacki,

Director, Office of Foreign Assets Control.

Dated: January 19, 2021.

OFFICE OF FOREIGN ASSETS CONTROL

Global Terrorism Sanctions Regulations

31 CFR Part 594

Foreign Terrorist Organizations Sanctions Regulations

31 CFR Part 597

Executive Order 13224 of September 23, 2001

Blocking Property and Prohibiting Transactions With Persons Who Commit, Threaten To Commit, or Support Terrorism, as Amended

GENERAL LICENSE NO. 13

Authorizing Transactions Involving Ansarallah

(a) Except as provided in paragraph (b) of this general license, all transactions and activities involving Ansarallah, or any entity in which Ansarallah owns, directly or indirectly, a 50 percent or greater interest, prohibited by the Global Terrorism Sanctions Regulations, 31 CFR part 594 (GTSR), the Foreign Terrorist Organizations Sanctions Regulations, 31 CFR part 597 (FTOSR), or Executive Order (E.O.) 13224, as amended, are authorized through 12:01 a.m. eastern standard time, February 26, 2021.

(b) This general license does not authorize:

(1) The unblocking of any funds in accounts of the blocked persons identified in paragraph (a) of this general license that were blocked as of 12:01 a.m. eastern standard time, January 25, 2021.

(2) Any transactions or activities otherwise prohibited by the GTSR, the FTOSR, or any other part of 31 CFR chapter V, or E.O. 13224, as amended, or any transactions or activities with any blocked persons other than the blocked persons identified in paragraph (a) of this general license.

Bradley T. Smith,

Acting Director, Office of Foreign Assets Control.

Dated: January 25, 2021.

Bradley T. Smith,
Director, Office of Foreign Assets Control.

[FR Doc. 2024-12331 Filed 6-7-24; 8:45 am]

BILLING CODE 4810-AL-P